DEPARTMENT OF ENERGY

Federal Energy Regulatory Commission

[Docket No. IC12-8-000]

Commission Information Collection Activities; Comment Request; Extension

AGENCY: Federal Energy Regulatory Commission, DOE.

ACTION: Notice of information collection and request for comments.

SUMMARY: In compliance with the requirements of the Paperwork Reduction Act of 1995, 44 U.S.C. 3506(c)(2)(A), the Federal Energy Regulatory Commission is soliciting public comment on the currently approved information collection, FERC-567, Gas Pipeline Certificates: Annual Reports of System Flow Diagrams and System Capacity.

DATES: Comments on the collection of information are due April 27, 2012.

ADDRESSES: You may submit comments (identified by Docket No. IC12-8-000) by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Title: FERC-567, Gas Pipeline Certificates: Annual Reports of System Flow Diagrams and System Capacity.

OMB Control No.: 1902-0005.

Type of Request: Three-year extension of the FERC-567 information collection requirements with no changes to the current reporting requirements.

Abstract: The Commission uses the information from the FERC-567 to obtain accurate data on pipeline facilities and the peak capacity of these facilities. Additionally, the Commission validates the need for new facilities proposed by pipelines in certificate applications. By modeling an applicant's pipeline system, Commission staff utilizes the FERC-567 data to determine configuration and location of installed pipeline facilities; verify and determine the receipt and delivery points between shippers, producers and pipeline companies; determine the location of receipt and delivery points and emergency interconnections on a pipeline system; determine the location of pipeline segments, laterals and compressor stations on a pipeline system; verify pipeline segment lengths and pipeline diameters; justify the maximum allowable operating pressures and suction and discharge pressures at compressor stations; verify the installed horsepower and volumes compressed at each compressor station; determine the existing shippers and producers currently using each pipeline company; verify peak capacity on the system; and develop and evaluate alternatives to the proposed facilities as a means to mitigate environmental impact of new pipeline construction.

18 Code of Federal Regulations (CFR) 260.8(a) requires each major natural gas pipeline with a system delivery capacity exceeding 100,000 Mcf per day to submit by June 1 of each year, diagrams reflecting operating conditions on the pipeline's main transmission system during the previous 12 months ended December 31. 18 CFR 284.13 requires each interstate pipeline that provides transportation subject to the provisions of Subparts B and G of Part 284 to make an annual filing by March 1 of each year showing the estimated peak day capacity of the pipeline's system. These physical/engineering data are not included as part of any other data collection requirement.

Type of Respondents: Natural gas pipelines.

Estimate of Annual Burden: ¹ The Commission estimates the total Public Reporting Burden for this information collection as:

¹ Burden is defined as the total time, effort, or financial resources expended by persons to generate, maintain, retain, or disclose or provide information to or for a Federal agency. For further explanation of what is included in the information collection burden, reference 5 Code of Federal Regulations 1320.3(b)(1).

| Number of respondents | Number of responses per respondent | Total number of responses | Average burden hours per response | Estimated total annual burden
| (A) | (B) | (A) × (B) = (C) | (D) | (C) × (D)
Natural Gas Pipelines | 103 | 1 | 103 | 1 | 103

The total estimated annual cost burden to respondents is $ [103 hours ÷ 2,080 ² hours/year = 0.04952 * $143,540/year ³ = $7,108].

² 2080 hours = 40 hours/week * 52 weeks (1 year).

³ Average annual salary per employee in 2012.

The estimated annual cost of filing the FERC-567 per response is $69 [$7,108 ÷ 103 responses = $69/response].

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: February 17, 2012.
Kimberly D. Bose,
Secretary.

[FR Doc. 2012-4419 Filed 2-24-12; 8:45 am]

BILLING CODE 6717-01-P